DEPARTMENT OF THE INTERIOR

Minerals Management Service

30 CFR Part 203

RIN 1010-AC71

Royalty or Reduction in Royalty Rates—Deep Water Royalty Relief for OCS Oil and Gas Leases Issued After 2000

AGENCY: Minerals Management Service (MMS), Interior.

ACTION: Extension of comment period for proposed rule.

SUMMARY: This document extends to January 9, 2001, the deadline for submitting comments on the proposed rule revising regulations on royalty relief for oil and gas producers on the Outer Continental Shelf (OCS). The proposed rule provides for suspension or reduction of royalty on a case-by-case basis for certain additional categories of OCS leases under 30 CFR part 203. Also, it identifies circumstances when we may consider special royalty relief outside our established end-of-life and deep water royalty relief programs.

DATES: We will consider all comments received by January 9, 2001, and we may not fully consider comments received after January 9, 2001.

ADDRESSES: Mail or hand-carry written comments (three copies) to the Department of the Interior; Minerals Management Service; 381 Elden Street; Mail Stop 4024; Herndon, Virginia 20170-4817; Attention: Rules Processing Team. You may also e-mail your comments to RPT at: rules.comments@MMS.gov. Please mark your message for return receipt and identify the rule identification number “RIN 1010-AC71” in the subject line of your message. Include your name and return address in your message text.

FOR FURTHER INFORMATION CONTACT: Marshall Rose, Economic Division, at (703) 787-1536.

SUPPLEMENTARY INFORMATION: MMS was asked to extend the deadline for submitting comments on the proposed regulations revising 30 CFR part 203, Relief or Reduction in Royalty Rates, published on November 16, 2000 (65 FR 69259, with a subsequent correction on November 22, 2000 (65 FR 70386)). The requests indicate a need to wait for the conclusion of two MMS-sponsored workshops the week of December 11, which are designed, in part, to discuss the content and rationale of the proposed rule.

Public Comments Procedures

Our practice is to make comments, including names and home addresses of respondents, available for public review during regular business hours. Individual respondents may request that we withhold their home address from the rulemaking record, which we will honor to the extent allowable by law. There may be circumstances in which we would withhold from the rulemaking record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

Dated: December 11, 2000.
Carolita U. Kallaur,
Associate Director for Offshore Minerals Management.

[FR Doc. 00-32006 Filed 12-14-00; 8:45 am]

BILLING CODE 4310-MR-M